FEDERAL EMERGENCY MANAGEMENT AGENCY

Privacy Act Systems of Records; Amendment to Existing Routine Uses

AGENCY: Federal Emergency Management Agency (FEMA).

ACTION: Notice of amendment to routine uses.

SUMMARY: In compliance with the requirements of the Privacy Act of 1974, as amended, 5 U.S.C. 552a, we (FEMA) give notice of amendments to two routine uses to our existing system of records entitled, FEMA/REG-2, Disaster Recovery Assistance Files. We have clarified the language in routine uses (a) and (b) to better distinguish the two eligibility-related routine uses. We have updated the designation of system manager. We are also giving notice of the availability of previously published routine use (c), regarding hazard mitigation planning and building code enforcement.

EFFECTIVE DATES: Routine uses (a) and (b) are effective for major disasters and emergencies declared on or after September 11, 2001. Routine use (c) was effective for major disasters and emergencies declared on or after April 7, 2000. Other minor modifications to this system are effective October 9, 2001.

ADDRESSES: Rules Docket Clerk, Federal Emergency Management Agency, Office of General Counsel, room 840, 500 C Street SW., Washington, DC 20472, or (email) rules@fema.gov.

FOR FURTHER INFORMATION CONTACT: Eileen Leshan, FOIA/Privacy Specialist, at (202) 646-3840, or (email) eileen.leshan@fema.gov.

SUPPLEMENTARY INFORMATION: We published notices of systems of records on January 5, 1987, 52 FR 324; February 3, 1987, 52 FR 3344; March 5, 1987, 52 FR 6875, September 7, 1990, 55 FR 37182; September 23, 1996, 61 FR 49777, and July 27, 1999, 64 FR 40596. We do not need to provide an altered system of records report as required by 5 U.S.C. 552a(r), because this is a minor change to the system of records.

This change is to clarify and simplify the language of two existing routine uses, (a) and (b). This amendment will not change the type or amount of information collected or released. An additional minor modification includes an update to the designation of system manager. Finally, this notice will make the public aware that, although on July 27, 1999, (Volume 64, Number 143) FEMA published notice of a new routine use (c), which allows us to disclose information from this system of records to federal, state, and local governments to help develop hazard mitigation measures for community hazard mitigation planning, and to assure building practices consistent with hazard specific building codes, standards, and ordinances, FEMA will release information under that routine use only for disasters declared on or after April 7, 2000. This is because we are required under the Privacy Act to give notice to our applicants of the purposes for which we might disclose their information, and, such notice was not provided on application forms until that date.

Dated: October 2, 2001.
Michael D. Brown,
General Counsel.

The entire text of the system of records affected by this notice and Appendixes A and AA to FEMA/REG-2 follow:

FEMA/REG-2

System Name:

Disaster Recovery Assistance Files.

Security Classification:

Unclassified.

System Location:

FEMA National Processing Service Centers.

Categories of Individuals Covered by the System:

Individuals who apply for disaster recovery assistance following presidentially declared major disasters or emergencies.

Categories of Records in the System:

(a) Records of registration for assistance (FEMA Form 90-69, Disaster Assistance Registration/Application includes names, addresses, telephone numbers, social security numbers, insurance coverage information, household size and composition, degree of damage incurred, income information, programs to which we refer applicants for assistance, flood zones, location and height of high water level, preliminary determinations of eligibility for disaster assistance).

(b) Inspection reports (FEMA Form 90-56, Inspection Report) contain identification information, and results of surveys of damaged real and personal property and goods.

(c) Temporary housing assistance eligibility determinations (FEMA Forms 90-11 through 90-13, 90-16, 90-22, 90-24 through 90-28, 90-31, 90-33, 90-41, 90-48, 90-57, 90-68 through 90-70, 90-71, 90-75 through 90-78, 90-82, 90-86, 90-87, 90-94 through 90-97, 90-99, and 90-101). These apply to approval and disapproval of temporary housing assistance: general correspondence, complaints, appeals, and resolutions, requests for disbursement of payments, inquiries from tenants and landlords, general administrative and fiscal information, payment schedules and forms, termination notices, and information shared with the temporary housing program staff from other agencies to prevent duplication of benefits, leases, contracts, specifications for repair of disaster damaged residences, reasons for eviction or denial of aid, sales information after tenant purchase of housing units, and status of disposition of applications of housing.

(d) Eligibility decisions from other agencies (for example, the disaster loan program administered by the Small Business Administration, and decisions of the State-administered Individual and Family Grant program) as they relate to determinations of eligibility for disaster assistance programs.

(e) State files containing related, but independently kept, records of persons who request Individual and Family Grants, and administrative files and reports FEMA requires. As to individuals, we keep the same type of information as described above under registration, inspection, and temporary housing assistance records. As to administrative and reporting requirements, we use FEMA Forms 76-27, 76-28, 76-30, 76-32, 76-34, 76-35, and 76-38. We also use State administrative planning formats.

Authority for maintenance of the system:

The Robert T. Stafford Disaster Relief and Emergency Assistance Act, 42 U.S.C. 5121—5206; Reorganization Plan No. 3 of 1978.

Purpose(s):

To register applicants needing disaster assistance, to inspect damaged homes, to verify information provided by the applicant, to make eligibility determinations for that assistance, and to identify and implement measures to reduce future disaster damage.

Routine Uses of Records Maintained in the System, Including Categories of Users and the Purposes of Such Uses:

(a) We may disclose applicant information to certain agencies as necessary and as described below to prevent a duplication of efforts or a duplication of benefits in determining eligibility for disaster assistance. We may disclose only information from this system of records relevant to that agency's particular assistance program(s). The receiving agency is not permitted to change disclosed FEMA records. We may make such disclosures under the following circumstances:

(i) To another Federal agency or State government agency charged with administering disaster relief programs, and

(ii) When an applicant seeks assistance from a local government agency or voluntary agency (as defined at 44 CFR 206.2) charged under legislation or charter with administering disaster relief programs, and FEMA receives a written request from that local government or voluntary agency that includes the applicant's name, date of birth and damaged dwelling address. FEMA shall not release lists of names to local government agencies or voluntary agencies routine use (a)(ii).

(b) When eligibility, in whole or in part, for a FEMA disaster assistance program depends on benefits received or available from another source for the same purpose, we may disclose information to relevant agencies, organizations, and institutions only as necessary to obtain information in order to determine and prevent duplication of benefits (as described in section 312 of the Stafford Act).

(c) In response to a written request, we may disclose information from this system of records to Federal, State, or local government agencies charged with the implementation of hazard mitigation measures and the enforcement of hazard-specific provisions of building codes, standards, and ordinances. We may disclose only information necessary for the following purposes:

(i) For hazard mitigation planning purposes to assist States and communities in identifying high-risk areas and preparing mitigation plans that target those areas for hazard mitigation projects implemented under Federal, State or local hazard mitigation programs; and

(ii) For enforcement purposes to enable State and communities to ensure that owners repair or rebuild structures in conformance with applicable hazard-specific building codes, standards, and ordinances.

(d) Additional routine uses may include those uses identified at Nos. 1, 2, 3, 5, 6, and 8 of Appendix A.

Disclosure to Consumer Reporting Agencies:

Disclosure Under 5 U.S.C. 552a(b)(12): We may make disclosures from this system to “consumer reporting agencies” as defined in the Fair Credit Reporting Act, 15 U.S.C. 1681a(f) or the Debt Collection Act of 1982.

Policies and Practices for Storing, Retrieving, Accessing, Retaining, and Disposing of Records in the System:

Storage:

Interactive database; computer discs, records in file folders.

Retrievability:

By name, address, social security number, case file numbers.

Safeguards:

Hardware and software computer security measures; paper files in locked file cabinets or rooms; buildings are secured during non-business hours by building guards.

Retention and disposal:

Because of varying record schedules applicable to this system of records, we have broken down the paragraphs under the categories of records section for easy reference. Records covered by paragraphs (a) through (d) are covered by FEMA Records Schedule N1-311-86-1, Item 8b(l) and are destroyed 6 years and 3 months after the files are consolidated. Records covered by paragraph (e) are covered by FEMA Records Schedule N1-311-86-1, Item 7 and are destroyed 3 years after the disaster contract is terminated.

System Manager(s) and Address:

We list the addresses of Regional Directors and Regional Readiness, Response and Recovery Division Chiefs of FEMA in Appendix AA; and the Division Director, Recovery Division, Readiness, Response and Recovery Directorate, 500 C Street SW., Washington, DC 20472.

Notification Procedures:

You should address Inquiries to the appropriate system manager. Written requests should be clearly marked, “Privacy Act Request” on the envelope and letter. Include full name of the individual, some type of appropriate personal identification, and current address. For personal visits, you should be able to provide some acceptable identification, that is, driver's license, employing office's identification card, or other identification data.

Records Access Procedures:

Same as notification procedure above.

Contesting Records Procedure:

Same as notification procedure above. The letter should state clearly and concisely what information you are contesting, the reasons for contesting it, and the proposed amendment to the information that you seek. FEMA Privacy Act regulations are at 44 CFR part 6.

Record Source Categories:

Applicants for disaster recovery assistance; credit rating bureaus, financial institutions, insurance companies and agencies providing disaster relief.

Systems Exempted from Certain Provisions of the Act:

None.

Appendix A

Introduction to Routine Uses: We have identified certain routine uses that are applicable to many of our systems of record notices. We will list the specific routine uses applicable to an individual system of record notice under the “Routine Use” section of the notice itself, which will correspond to the numbering of the routine uses published below. We are publishing these uses only once in the interest of simplicity and economy, rather than repeating them in every individual system notice.

1. Routine Use—Law Enforcement: We may disclose as a routine use a record from any of our system of records that indicates either by itself or in combination with other information that we have, a violation or potential violation of law, whether civil, criminal or regulatory, and whether arising by general statute, or by regulation, rule or order. We may disclose these records to the appropriate agency whether Federal, State, territorial, local or foreign, or foreign agency or professional organization, responsible for enforcing, implementing, investigating, or prosecuting such violation or for implementing the statute, rule, regulation or order.

2. Routine Use—Disclosure When Requesting Information: We may disclose as a routine use a record from our system of records to a Federal, State, or local agency maintaining civil, criminal, regulatory, licensing or other enforcement information or other pertinent information, such as current licenses, if necessary to obtain information relevant to an agency decision concerning hiring or retention of an employee, issuance of a security clearance, letting of a contract, or issuance of a license, grant, or other benefit.

3. Routine Use—Disclosure of Requested Information: We may disclose as a routine use a record from our system of records to a Federal agency in response to a written request in connection with hiring or retaining an employee, an investigation of an employee, letting of a contract, or issuance of a license, grant, or other benefit by the requesting agency, to the extent that the information is relevant and necessary to the requesting agency's decision.

4. Routine Use—Grievance, Complaint, Appeal: We may disclose as a routine use a record from our system of records to an authorized appeal or grievance examiner, formal complaints examiner, equal employment opportunity investigator, arbitrator, or other duly authorized official investigating or settling a grievance, complaint, or appeal filed by an employee. We may also disclose as a routine use a record from this system of records to the Office of Personnel Management under that agency's responsibility to evaluate Federal personnel management.

To the extent that official personnel records in our custody are covered within systems of records published by the Office of Personnel Management as government-wide records, we will consider those records as a part of that government-wide system. We may transfer as a routine use to the Office of Personnel Management under official personnel programs and activities other official personnel records covered by notices that we published and that we consider are separate systems of records.

5. Routine Use—Congressional Inquiries: If the individual subject of the record asks us to disclose the information, we may disclose as a routine use a record from our system of records to a Member of Congress or to a congressional staff member in response to an inquiry from the congressional office.

6. Routine Use—Private Relief Legislation: We may disclose as a routine use the information contained in our system of records to the Office of Management and Budget at any stage of the legislative coordination and clearance process set out in OMB Circular No. A-19.

7. Routine Use—Disclosure to the Office of Personnel Management: We may disclose as a routine use a record from our system of records to the Office of Personnel Management concerning information on pay and leave benefits, retirement deductions, and any other information concerning personnel actions.

8. Routine Use—Disclosure to National Archives and Records Administration: We may disclose as a routine use a record from our system of records to the National Archives and Records Administration in records management inspections conducted under the authority of 44 U.S.C. 2904 and 12906.

9. Routine Use—Grand Jury: We may disclose as a routine use a record from our system of records to a grand jury agent under a Federal or State grand jury subpoena, or under a prosecution request that we release such record for introduction to a grand jury.

Appendix AA

Addresses for FEMA Regional Offices

Region I—Regional Director, FEMA, room 442, J.W. McCormack Post Office and Courthouse Building, Boston, MA 02109-4595;

Region II—Regional Director, FEMA, 26 Federal Plaza, room 1338, New York, NY 10278-0002;

Region III—Regional Director, FEMA, Liberty Square Building (Second Floor), 105 South Seventh Street, Philadelphia, PA 19106-3316;

Region IV—Regional Director, FEMA, 3003 Chamblee-Tucker Road, Atlanta, GA 30341;

Region V—Regional Director, FEMA, 175 West Jackson Blvd., 4th Floor, Chicago, IL 60604-2698;

Region VI—Regional Director, FEMA, Federal Regional Center, 800 North Loop 288, Denton, TX 76201-3698;

Region VII—Regional Director, FEMA, 2323 Grand Boulevard, room 900, Kansas City, MO 64108-2670;

Region VIII—Regional Director, FEMA, Denver Federal Center, Building 710, Box 25267, Denver, CO 80225-0267.

[FR Doc. 01-25241 Filed 10-5-01; 8:45 am]

BILLING CODE 6718-02-P